DEPARTMENT OF TRANSPORTATION

National Highway Traffic Safety Administration

[Docket No. NHTSA-2011-0124]

Decision That Certain Nonconforming Motor Vehicles Are Eligible for Importation

AGENCY: National Highway Traffic Safety Administration (NHTSA), Department of Transportation.

ACTION: Notice of decision by National Highway Traffic Safety Administration (NHTSA) that certain nonconforming motor vehicles are eligible for importation.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and they are capable of being readily altered to conform to the standards or because they have safety features that comply with, or are capable of being altered to comply with, all applicable FMVSS.

DATES: These decisions became effective on the dates specified in Annex A.

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions.

Comments: Safe Ride News (Safe Ride), a Division of the Willapa Bay Company, Inc., submitted comments to petition dockets NHTSA-2011-0057, NHTSA-2011-0019, and NHTSA-2011-0061 expressing its concern that a nonconforming vehicle's ability to meet all safety requirements intended to protect child occupants (specifically those required by FMVSS Nos. 208 Occupant Crash Protection and 225 Child Restraint Anchorage Systems) be verified before the vehicle is released by a Registered Importer (RI). Safe Ride also questioned whether it is advisable for the agency to permit the importation of older vehicles that cannot be required to meet safety standards put into place after their date of manufacture.

Addressing the first issue raised by Safe Rides, it is worth noting that under the agency's existing regulations, a nonconforming vehicle cannot be found eligible for importation unless it is shown to be capable of being modified to conform to all applicable FMVSS in effect on its date of manufacture. Moreover, such a vehicle cannot be released by an RI for the purpose of being licensed or registered for on-road use until the RI proves to NHTSA's satisfaction that the vehicle does in fact comply with all such standards. In instances where modifications are necessary to achieve compliance, the RI must provide descriptions of the modifications required along with documentary and photographic evidence that the modifications have been made. When modifications require components that are different from those installed in a substantially similar U.S.-certified version of a vehicle, proof that the substituted components will bring the vehicle into compliance with all applicable FMVSS are also necessary. With regard to the second issue raised by Safe Rides, the agency notes that it lacks authority to deny import eligibility to an older model vehicle on the basis that the vehicle could not be made to comply with FMVSS put into place after the vehicle's date of manufacture.

No other substantive comments were received in response to the subject petitions.

Based on its review of the information submitted by the petitioners, NHTSA has decided to grant the petitions.

Vehicle Eligibility Number for Subject Vehicles: The importer of a vehicle admissible under any final decision must indicate on the form HS-7 accompanying entry the appropriate vehicle eligibility number indicating that the vehicle is eligible for entry. Vehicle eligibility numbers assigned to vehicles admissible under this decision are specified in Annex A.

Final Decision: Accordingly, on the basis of the foregoing, NHTSA hereby decides that each motor vehicle listed in Annex A to this notice, which was not originally manufactured to comply with all applicable FMVSS, is either substantially similar to a motor vehicle manufactured for importation into and/or sale in the United States, and certified under 49 U.S.C. 30115, as specified in Annex A, and is capable of being readily altered to conform to all applicable FMVSS or has safety features that comply with, or is capable of being altered to comply with, all applicable Federal Motor Vehicle Safety Standards.

Authority: 49 U.S.C. 30141(a)(1)(A), (a)(1)(B) and (b)(1); 49 CFR 593.8; delegations of authority at 49 CFR 1.50 and 501.8.

Issued on: August 24, 2011.
Claude H. Harris,
Director, Office of Vehicle Safety Compliance.

Annex A—Nonconforming Motor Vehicles Decided To Be Eligible for Importation

1. Docket No. NHTSA-2011-0061:

Nonconforming Vehicles: 2007 Dodge Durango multipurpose passenger vehicles manufactured for the Mexican market.

Substantially Similar U.S. Certified Vehicles: 2007 Dodge Durango multipurpose passenger vehicles manufactured for the Mexican market.

Notice of Petition:

Published at: 76 FR 32391 (June 6, 2011).

Vehicle Eligibility Number: VSP-534 (effective date July 19, 2011).

2. Docket No. NHTSA-2011-0055:

Nonconforming Vehicles: 2007-2011 Suzuki GSX1300R Motorcycles.

Substantially Similar U.S. Certified Vehicles:

2007-2011 Suzuki GSX1300R Motorcycles.

Notice of Petition:

Published at: 76 FR 30425 (May 25, 2011).

Vehicle Eligibility Number: VSP-533 (effective date July 11, 2011).

3. Docket No. NHTSA-2011-0057:

Nonconforming Vehicles: 2006 Mercedes-Benz CLS class passenger cars manufactured prior to September 1, 2006.

Substantially Similar U.S. Certified Vehicles: 2006 Mercedes-Benz CLS class passenger cars manufactured prior to September 1, 2006.

Notice of Petition:

Published at: 76 FR 30426 (May 25, 2011).

Vehicle Eligibility Number: VSP-532 (effective date July 7, 2011).

4. Docket No. NHTSA-2011-0028:

Nonconforming Vehicles: 2005-2006 Porsche Carrerra (997) passenger cars manufactured prior to September 1, 2006.

Substantially Similar U.S. Certified Vehicles: 2005-2006 Porsche Carrerra (997) passenger cars manufactured prior to September 1, 2006.

Notice of Petition:

Published at: 76 FR 14117 (March 15, 2011).

Vehicle Eligibility Number: VSP-531 (effective date April 26, 2011).

5. Docket No. NHTSA-2010-0170:

Nonconforming Vehicles: 2006 and 2007 Aston Martin Vantage passenger cars.

Substantially Similar U.S. Certified Vehicles: 2006 and 2007 Aston Martin Vantage passenger cars.

Notice of Petition:

Published at: 76 FR 6841 (February 8, 2011).

Vehicle Eligibility Number: VSP-530 (effective date March 23, 2011).

6. Docket No. NHTSA-2010-0173:

Nonconforming Vehicles: 1991 Rice Beaufort Double trailers.

Substantially Similar U.S. Certified Vehicles: 1991 Rice Beaufort Double trailers.

Notice of Petition:

Published at: 75 FR 81711 (December 28, 2010).

Vehicle Eligibility Number: VSP-529 (effective date February 3, 2011).

7. Docket No. NHTSA-2010-0161:

Nonconforming Vehicles: 2010 Harley Davidson FL Series Motorcycles.

Substantially Similar U.S. Certified Vehicles: 2010 Harley Davidson FL Series Motorcycles.

Notice of Petition:

Published at: 75 FR 74145 (November 30, 2010).

Vehicle Eligibility Number: VSP-528 (effective date January 28, 2011).

8. Docket No. NHTSA-2011-0062:

Nonconforming Vehicles: 2008-2010 M&V GmbH Siegmar Fzb trailers.

Because there are no substantially similar U.S.-certified version 2008-2010 M&V GmbH Siegmar Fzb trailers, the petitioner sought import eligibility under 49 U.S.C. 30141(a)(1)(B).

Notice of Petition:

Published at: 76 FR 32019 (June 2, 2011).

Vehicle Eligibility Number: VCP-46 (effective date July 18, 2011).

9. Docket No. NHTSA-2011-0019:

Nonconforming Vehicles: 2005 Mercedes-Benz 350 CLS passenger cars.

Because there are no substantially similar U.S.-certified version 2005 Mercedes-Benz 350 CLS passenger cars, the petitioner sought import eligibility under 49 U.S.C. 30141(a)(1)(B).

Notice of Petition:

Published at: 76 FR 28501 (May 17, 2011).

Vehicle Eligibility Number: VCP-45 (effective date July 11, 2011).

10. Docket No. NHTSA-2011-0034:

Nonconforming Vehicles: 2002 Kawasaki Ninja ZX-6R motorcycles.

Because there are no substantially similar U.S.-certified version 2002 Kawasaki Ninja ZX-6R motorcycles, the petitioner sought import eligibility under 49 U.S.C. 30141(a)(1)(B).

Notice of Petition:

Published at: 76 FR 14116 (March 15, 2011).

Vehicle Eligibility Number: VCP-44 (effective date April 26, 2011).

11. Docket No. NHTSA-2010-0108:

Nonconforming Vehicles: 1989-1996 ALPINA B12 2-door Coupe model passenger cars.

Because there are no substantially similar U.S.-certified version 1989-1996 ALPINA B12 2-door Coupe model passenger cars, the petitioner sought import eligibility under 49 U.S.C. 30141(a)(1)(B).

Notice of Petition:

Published at: 75 FR 51164 (August 18, 2010).

Vehicle Eligibility Number: VCP-43 (effective date October 4, 2010).

[FR Doc. 2011-22234 Filed 8-30-11; 8:45 am]

BILLING CODE 4910-59-P